DEPARTMENT OF COMMERCE

International Trade Adminstration

[A-533-873]

Certain Cold-Drawn Mechanical Tubing of Carbon and Alloy Steel From India: Amended Preliminary Determination of Sales at Less Than Fair Value

AGENCY: Enforcement and Compliance, International Trade Administration, Department of Commerce.

SUMMARY: The Department of Commerce (Commerce) is amending its Preliminary Determination of the antidumping duty investigation of certain cold-drawn mechanical tubing of carbon and alloy steel (mechanical tubing) from India. We are correcting a ministerial error with respect to certain steel grades reported by one of the mandatory respondents, Goodluck India Limited. The period of investigation (POI) is April 1, 2016, through March 31, 2017.

DATES: Applicable January 9, 2018.

FOR FURTHER INFORMATION CONTACT: Susan Pulongbarit and Omar Qureshi, AD/CVD Operations, Office V, Enforcement & Compliance, International Trade Administration, U.S. Department of Commerce, 14th Street and Constitution Avenue NW, Washington, DC, 20230; telephone: (202) 482-2593, or (202) 482-0987, respectively.

SUPPLEMENTAL INFORMATION: On November 22, 2017, Commerce published in the Federal Register the Preliminary Determination that mechanical tubing from India is being, or is likely to be, sold in the United States at less than fair value (LTFV), as provided in section 733 of the Tariff Act of 1930, as amended (the Act).¹ On November 22, 2017, ArcelorMittal Tubular Products, Michigan Seamless Tube LLC, Plymouth Tube Co., USA, PTC Alliance Corp., Webco Industries, Inc. and Zekelman Industries, Inc. (collectively, the petitioners) filed timely allegations of ministerial errors contained in Commerce's Preliminary Determination.² On November 27, 2017, Goodluck filed timely allegations of ministerial errors contained in Commerce's Preliminary Determination.³

¹ See Certain Cold-Drawn Mechanical Tubing of Carbon and Alloy Steel from India: Preliminary Affirmative Determination of Sales at Less Than Fair Value, in Part, Postponement of Final Determination, and Extension of Provisional Measures, 82 FR 55567 (November 22, 2017) and accompanying PDM (Preliminary Determination).

² See the petitioners' November 22, 2107 submission (the Petitioners' Ministerial Error Comments).

³ See Goodluck's November 27, 2017 submission (Goodluck's Ministerial Error Comments).

Scope of Investigation

The product covered by this investigation is mechanical tubing from India. For a full description of the scope of this investigation, see the “Scope of the Investigation,” in the Appendix to this notice.

Significant Ministerial Error

Pursuant to 19 CFR 351.224(e) and (g)(1), Commerce is amending the Preliminary Determination to reflect the correction of a significant ministerial error it made in the margin assigned to Goodluck, a mandatory respondent. A ministerial error is defined as an error in addition, subtraction, or other arithmetic function, clerical error resulting from inaccurate copying, duplication, or the like, and any other similar type of unintentional error which the Secretary considers ministerial.⁴ A significant ministerial error is defined as a ministerial error, the correction of which, singly or in combination with other errors, would result in (1) a change of at least five absolute percentage points in, but not less than 25 percent of, the weighted-average dumping margin calculated in the original (erroneous) preliminary determination, or (2) a difference between a weighted-average dumping margin of zero or de minimis and a weighted-average dumping margin of greater than de minimis or vice versa.⁵ As a result of this amended preliminary determination, we have applied an antidumping duty margin to Goodluck, as noted below in the “Amended Preliminary Determination” section.

⁴ See section 735(e) of the Act.

⁵ See 19 CFR 351.224(g).

Ministerial Error Allegations

On November 22, 2017, the petitioners submitted a ministerial error allegation claiming that Commerce incorrectly reclassified certain grades of steel reported by Goodluck in the Preliminary Determination.⁶ Commerce reviewed the record and agrees that this constitutes a significant ministerial error within the meaning of 19 CFR 351.224(g) and have recalculated Goodluck's dumping margin.⁷ This error was significant because Goodluck's margin increased from 0.00 percent to 4.02 percent.⁸

⁶ See the Petitioners' Ministerial Error Comments.

⁷ For more information, see the Memo to James Maeder, Senior Director performing the duties of Deputy Assistant Secretary for Antidumping and Countervailing Duty Operations, “Antidumping Duty Investigation of Certain Cold-Drawn Mechanical Tubing of Carbon and Alloy Steel from India: Analysis of Ministerial Error Allegations,” dated concurrently with this notice (Ministerial Error Memo).

⁸ Id.

On November 27, 2017, Goodluck also submitted a ministerial error allegation claiming that Commerce incorrectly reclassified certain grades of steel reported by Goodluck in the Preliminary Determination.⁹ Commerce reviewed the record and does not find that this constitutes a ministerial error within the meaning of 19 CFR 351.224(g) and have made no changes to the Preliminary Determination based on this allegation.¹⁰

⁹ See Goodluck's Ministerial Error Comments.

¹⁰ See Ministerial Error Memo.

Amended Preliminary Determination

We are amending the Preliminary Determination of sales at LTFV for mechanical tubing from India to reflect the correction of a significant ministerial error made in the margin calculation for Goodluck. In addition, because the preliminary “All-Others” rate was based on the estimated weighted-average dumping margin calculated for Tube Products of India, Ltd., we are also amending the “All-Others” rate. We have calculated a simple margin for non-selected respondents using the average of the estimated weighted-average dumping margins of the two individually selected respondents, Goodluck and TPI.¹¹ As a result of the correction of the ministerial error, the revised weighted-average dumping margins are as follows:

¹¹ Commerce did not have updated publicly ranged U.S. sales value information for TPI. As a result, Commerce could not perform a weighted-average calculation for non-selected respondents for this amended preliminary determination.

Producer | Exporter | Estimated weighted- average dumping margin (percent) | Cash deposit rate (adjusted for subsidy offset(s)) (percent)
Goodluck India Limited | Goodluck India Limited | 4.02 | 0
Tube Products of India, Ltd. a unit of Tube Investments of India Limited (collectively TPI) | Tube Products of India, Ltd. a unit of Tube Investments of India Limited (collectively TPI) | ¹² 7.57 | 4.86
All-Others |  | 5.80 | 0

Amended Cash Deposits and Suspension of Liquidation

¹² This rate has not changed from the Preliminary Determination.

The collection of cash deposits and suspension of liquidation will be revised according to the rates established in this amended preliminary determination, in accordance with section 733(d) and (f) of the Act, and 19 CFR 351.224. Because Goodluck's rate is increasing from the Preliminary Determination, the amended cash deposit rates will be effective on the date of publication of this notice in the Federal Register. Because the correction of the error for Goodluck results in a reduced cash deposit rate for companies covered by the “all others” rate, the revised rate calculated for the “all others” rate will be effective retroactively to November 22, 2017, the date of publication of the Preliminary Determination.

International Trade Commission Notification

In accordance with section 733(f) of the Act, we notified the International Trade Commission of our amended preliminary determination.

This amended preliminary determination is issued and published in accordance with sections 733(f) and 777(i)(1) of the Act and 19 CFR 351.224(e).

Dated: January 3, 2018.
P. Lee Smith,
Deputy Assistant Secretary for Policy and Negotiations.

Appendix

Scope of the Investigation

The scope of this investigation covers cold-drawn mechanical tubing of carbon and alloy steel (cold-drawn mechanical tubing) of circular cross-section, 304.8 mm or more in length, in actual outside diameters less than 331mm, and regardless of wall thickness, surface finish, end finish or industry specification. The subject cold-drawn mechanical tubing is a tubular product with a circular cross-sectional shape that has been cold-drawn or otherwise cold-finished after the initial tube formation in a manner that involves a change in the diameter or wall thickness of the tubing, or both. The subject cold-drawn mechanical tubing may be produced from either welded (e.g., electric resistance welded, continuous welded, etc.) or seamless (e.g., pierced, pilgered or extruded, etc.) carbon or alloy steel tubular products. It may also be heat treated after cold working. Such heat treatments may include, but are not limited to, annealing, normalizing, quenching and tempering, stress relieving or finish annealing. Typical cold-drawing methods for subject merchandise include, but are not limited to, drawing over mandrel, rod drawing, plug drawing, sink drawing and similar processes that involve reducing the outside diameter of the tubing with a die or similar device, whether or not controlling the inside diameter of the tubing with an internal support device such as a mandrel, rod, plug or similar device. Other cold-finishing operations that may be used to produce subject merchandise include cold-rolling and cold-sizing the tubing.

Subject cold-drawn mechanical tubing is typically certified to meet industry specifications for cold-drawn tubing including but not limited to:

(1) American Society for Testing and Materials (ASTM) or American Society of Mechanical Engineers (ASME) specifications ASTM A-512, ASTM A-513 Type 3 (ASME SA513 Type 3), ASTM A-513 Type 4 (ASME SA513 Type 4), ASTM A-513 Type 5 (ASME SA513 Type 5), ASTM A-513 Type 6 (ASME SA513 Type 6), ASTM A-519 (cold-finished);

(2) SAE International (Society of Automotive Engineers) specifications SAE J524, SAE J525, SAE J2833, SAE J2614, SAE J2467, SAE J2435, SAE J2613;

(3) Aerospace Material Specification (AMS) AMS T-6736 (AMS 6736), AMS 6371, AMS 5050, AMS 5075, AMS 5062, AMS 6360, AMS 6361, AMS 6362, AMS 6371, AMS 6372, AMS 6374, AMS 6381, AMS 6415;

(4) United States Military Standards (MIL) MIL-T-5066 and MIL-T-6736;

(5) foreign standards equivalent to one of the previously listed ASTM, ASME, SAE, AMS or MIL specifications including but not limited to:

(a) German Institute for Standardization (DIN) specifications DIN 2391-2, DIN 2393-2, DIN 2394-2);

(b) European Standards (EN) EN 10305-1, EN 10305-2, EN 10305-3, EN 10305-4, EN 10305-6 and European national variations on those standards (e.g., British Standard (BS EN), Irish Standard (IS EN) and German Standard (DIN EN) variations, etc.);

(c) Japanese Industrial Standard (JIS) JIS G 3441 and JIS G 3445; and

(6) proprietary standards that are based on one of the above-listed standards.

The subject cold-drawn mechanical tubing may also be dual or multiple certified to more than one standard. Pipe that is multiple certified as cold-drawn mechanical tubing and to other specifications not covered by this scope, is also covered by the scope of this investigation when it meets the physical description set forth above.

Steel products included in the scope of this investigation are products in which: (1) Iron predominates, by weight, over each of the other contained elements; and (2) the carbon content is 2 percent or less by weight.

For purposes of this scope, the place of cold-drawing determines the country of origin of the subject merchandise. Subject merchandise that is subject to minor working in a third country that occurs after drawing in one of the subject countries including, but not limited to, heat treatment, cutting to length, straightening, nondestruction testing, deburring or chamfering, remains within the scope of this investigation.

All products that meet the written physical description are within the scope of this investigation unless specifically excluded or covered by the scope of an existing order. Merchandise that meets the physical description of cold-drawn mechanical tubing above is within the scope of the investigation even if it is also dual or multiple certified to an otherwise excluded specification listed below. The following products are outside of, and/or specifically excluded from, the scope of this investigation:

(1) Cold-drawn stainless steel tubing, containing 10.5 percent or more of chromium by weight and not more than 1.2 percent of carbon by weight;

(2) products certified to one or more of the ASTM, ASME or American Petroleum Institute (API) specifications listed below:

• ASTM A-53;

• ASTM A-106;

• ASTM A-179 (ASME SA 179);

• ASTM A-192 (ASME SA 192);

• ASTM A-209 (ASME SA 209);

• ASTM A-210 (ASME SA 210);

• ASTM A-213 (ASME SA 213);

• ASTM A-334 (ASME SA 334);

• ASTM A-423 (ASME SA 423);

• ASTM A-498;

• ASTM A-496 (ASME SA 496);

• ASTM A-199;

• ASTM A-500;

• ASTM A-556;

• ASTM A-565;

• API 5L; and

• API 5CT

except that any cold-drawn tubing product certified to one of the above excluded specifications will not be excluded from the scope if it is also dual- or multiple-certified to any other specification that otherwise would fall within the scope of this investigation.

The products subject to the investigation are currently classified in the Harmonized Tariff Schedule of the United States (HTSUS) under item numbers: 7304.31.3000, 7304.31.6050, 7304.51.1000, 7304.51.5005, 7304.51.5060, 7306.30.5015, 7306.30.5020, 7306.50.5030. Subject merchandise may also enter under numbers 7306.30.1000 and 7306.50.1000. The HTSUS subheadings above are provided for convenience and customs purposes only. The written description of the scope of the investigation is dispositive.

[FR Doc. 2018-00187 Filed 1-8-18; 8:45 am]

BILLING CODE 3510-DS-P